ENVIRONMENTAL PROTECTION AGENCY

[FRL-7784-4]

Program Requirement Revisions Related to the Public Water System Supervision Programs for the Commonwealth of Massachusetts and the State of Rhode Island

AGENCY: Environmental Protection Agency (EPA).

ACTION: Notice.

SUMMARY: Notice is hereby given that the Commonwealth of Massachusetts and the State of Rhode Island are in the process of revising their approved Public Water System Supervision Programs to meet the requirements of the Safe Drinking Water Act (SDWA).

The Commonwealth of Massachusetts has adopted drinking water regulations for the Stage 1 Disinfectants/Disinfection Byproducts Rule (63 FR 69390-69476), and the Interim Enhanced Surface Water Treatment Rule (63 FR 69478-69521), promulgated on December 16, 1998, that correspond to the National Primary Drinking Water Regulations. After review of the submitted documentation, EPA has determined that the Stage 1 Disinfectants/Disinfection Byproducts Rule and the Interim Enhanced Surface Water Treatment Rule currently in effect in Massachusetts are no less stringent than the corresponding Federal regulations. Therefore, EPA intends to approve these Public Water Supply Supervision Program requirements for the Commonwealth of Massachusetts.

The State of Rhode Island and the Commonwealth of Massachusetts have adopted drinking water regulations for the Filter Backwash Recycling Rule (66 FR 31086) promulgated on June 8, 2001. After review of the submitted documentation, EPA has determined that the Filter Backwash Recycling Rules for these states are no less stringent than Federal regulations. Therefore, EPA intends to approve these Public Water Supervision Program requirements for Rhode Island and Massachusetts.

DATES: All interested parties may request a public hearing for any of the above EPA determinations. A request for a public hearing must be submitted within thirty (30) days of this Federal Register publication date to the Regional Administrator at the address shown below. Frivolous or insubstantial requests for a hearing may be denied by the Regional Administrator. However, if a substantial request for a public hearing is made by this date, a public hearing will be held. If no timely and appropriate request for a hearing is received, and the Regional Administrator does not elect to hold a hearing on his/her own motion, this determination shall become final and effective 30 days after the publication of this Federal Register notice. Any request for a public hearing shall include the following information: (1) The name, address, and telephone number of the individual organization, or other entity requesting a hearing; (2) a brief statement of the requesting person's interest in the Regional Administrator's determination; (3) information that the requesting person intends to submit at such hearing; and (4) the signature of the individual making the request, or if the request is made on behalf of an organization or other entity, the signature of a responsible official of the organization or other entity.

ADDRESSES: All documents relating to this determination are available for inspection between the hours of 8:30 a.m. and 4 p.m., Monday through Friday, at the following office(s): U.S. Environmental Protection Agency, Office of Ecosystem Protection, One Congress Street, 11th floor, Boston, MA 02114.

For documents specific to that State/Commonwealth:

Massachusetts Department of Environmental Protection, Drinking Water Program, One Winter Street, Boston, MA 02108.

Rhode Island Department of Health, Office of Drinking Water Quality, 3 Capitol Hill, Cannon Building, Room 209, Providence, RI 02908-5097.

FOR FURTHER INFORMATION CONTACT: Barbara McGonagle, Office of Ecosystem Protection (telephone 617-918-1608).

Authority: Section 1401 and section 1413 (42 U.S.C. 300g-2) of the Safe Drinking Water Act, as amended (1996), and 40 CFR part 142.10 of the National Primary Drinking Water Regulations.

Dated: June 24, 2004.
Ira Leighton,
Acting Regional Administrator, EPA—New England.

[FR Doc. 04-15536 Filed 7-8-04; 8:45 am]

BILLING CODE 6560-50-P